DEPARTMENT OF ENERGY

Federal Energy Regulatory Commission

Sunshine Act Meeting Notice

The following notice of meeting is published pursuant to section 3(a) of the government in the Sunshine Act (Pub. L. 94-409), 5 U.S.C. 552b:

Agency Holding Meeting: Federal Energy Regulatory Commission.

TIME AND DATE: November 19, 2020, 10:00 a.m.

PLACE: Open to the public via audio Webcast only.¹

¹ Join FERC online to listen live at http://ferc.capitolconnection.org/.

STATUS: Open.

MATTERS TO BE CONSIDERED: Agenda. *Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link.

1072nd—Meeting, Open Meeting
[November 19, 2020, 10:00 a.m.]
Item No. | Docket No. | Company
Administrative
A-1 | AD21-1-000 | Agency Administrative Matters.
A-2 | AD21-2-000 | Customer Matters, Reliability, Security and Market Operations.
A-3 | AD07-13-014 | FY2020 Report on Enforcement.
Electric
E-1 | RM20-16-000 | Managing Transmission Line Ratings.
E-2 | RM19-15-001 | Qualifying Facility Rates and Requirements.
| AD16-16-001 | Implementation Issues Under the Public Utility Regulatory Policies Act of 1978.
E-3 | EL14-12-015 | Association of Businesses Advocating Tariff Equity, Coalition of MISO Transmission Customers, Illinois Industrial Energy Consumers, Indiana Industrial Energy Consumers, Inc., Minnesota Large Industrial Group, and Wisconsin Industrial Energy Group v. Midcontinent Independent System Operator, Inc., ALLETE, Inc., Ameren Illinois Company, Ameren Missouri, Ameren Transmission Company of Illinois, American Transmission Company LLC, Cleco Power LLC, Duke Energy Business Services, LLC, Entergy Arkansas, Inc., Entergy Gulf States Louisiana, LLC, Entergy Louisiana, LLC, Entergy Mississippi, Inc., Entergy New Orleans, Inc., Entergy Texas, Inc., Indianapolis Power & Light Company, International Transmission Company, ITC Midwest LLC, Michigan Electric Transmission Company, LLC, MidAmerican Energy Company, Montana-Dakota Utilities Co., Northen Indiana Public Service Company, Northern States Power Company-Minnesota, Northern States Power Company-Wisconsin, Otter Tail Power Company, and Southern Indiana Gas & Electric Company.
| EL15-45-014 | Arkansas Electric Cooperative Corporation, Mississippi Delta Energy Agency, Clarksdale Public Utilities Commission, Public Service Commission of Yazoo City, and Hoosier Energy Rural Electric Cooperative, Inc. v. ALLETE, Inc., Ameren Illinois Company, Ameren Missouri, Ameren Transmssion Company of Illinois, American Transmission Company LLC, Cleco Power LLC, Duke Energy Business Services, LLC, Entergy Arkansas, Inc., Entergy Gulf States Louisiana, LLC, Entergy Louisiana, LLC, Entergy Mississippi, Inc., Entergy New Orleans, Inc., Entergy Texas, Inc., Indianapolis Power & Light Company, International Transmission Company, ITC Midwest LLC, Michigan Electric Transmission Company, LLC, MidAmerican Energy Company, Montana-Dakota Utilities Co., Northern Indiana Public Service Company, Northern States Power Company-Minnesota, Northern States Power Company-Wisconsin, Otter Tail Power Company, and Southern Indiana Gas & Electric Company.
E-4 | ER20-850-000 | Bulb US LLC.
| ER20-851-000 | Bulb Energy US Inc.
E-5 | ER20-2890-000 | California Independent System Operator Corporation.
E-6 | EL20-39-000 ER20-2347-000 | Avista Corporation.
E-7 | ER20-841-001 | Appalachian Power Company. PJM Interconnection, L.L.C.
E-8 | ER18-2497-002 | Lawrenceburg Power, LLC.
E-9 | ER19-229-001 | Allegheny Ridge Wind Farm, LLC.
E-10 | ER20-1901-000 | Midcontinent Independent System Operator, Inc.
E-11 | ER19-2846-002 | Trans Bay Cable LLC.
E-12 | ER20-2435-000 TS20-6-000 ER19-2233-003 | Smoky Mountain Transmission LLC.
E-13 | ER21-30-000 | Pattern Energy Wind Development LLC
E-14 | ER18-2358-004 | Southwest Power Pool, Inc.
| ER19-1357-003 | GridLiance High Plains LLC.
E-15 | EL10-65-007 | Louisiana Public Service Commission v. Entergy Corporation, Entergy Services, Inc., Entergy Louisiana, LLC, Entergy Arkansas, Inc., Entergy New Orleans, Inc., Entergy Gulf States Louisiana, L.L.C., and Entergy Texas, Inc.
| ER14-2085-003 | Entergy Services, Inc.
| ER11-3658-003
| ER12-1920-003
| ER13-1595-003
| (Consolidated)
E-16 | OMITTED
E-17 | EL19-80-001 | Kansas Corporation Commission v. ITC Great Plains, LLC.
E-18 | EL20-49-000 | Shell Energy North America (US), L.P.
E-19 | ER20-1068-001 | The Dayton Power and Light Company.
| ER20-2100-001 | PJM Interconnection, L.L.C. and The Dayton Power and Light Company.
E-20 | ER18-619-001 | ISO New England Inc.
Gas
G-1 | OR18-9-000 | White Cliffs Pipeline, L.L.C.
HYDRO
H-1 | P-2629-014 | Village of Morrisville, Vermont.
H-2 | P-2486-087 | Wisconsin Electric Power Company.
Certificates
C-1 | RM20-15-001 | Limiting Authorizations to Proceed with Construction Activities Pending Rehearing.
C-2 | CP20-486-001 | Tuscarora Gas Transmission Company.
C-3 | CP15-17-005 | Sabal Trail Transmission, LLC.

The public is invited to listen to the meeting live at http://ferc.capitolconnection.org/. Anyone with internet access who desires to hear this event can do so by navigating to www.ferc.gov' s Calendar of Events and locating this event in the Calendar. The event will contain a link to its audio webcast. The Capitol Connection provides technical support for this free audio webcast. It will also offer access to this event via phone bridge for a fee. If you have any questions, visit http://ferc.capitolconnection.org/ or contact Shirley Al-Jarani at 703-993-3104.

Issued: November 12, 2020.
Nathaniel J. Davis, Sr.,
Deputy Secretary.

[FR Doc. 2020-25440 Filed 11-13-20; 11:15 am]

BILLING CODE 6717-01-P